DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 29, 2005.

Interested persons are invited to submit written comments regarding the subject matter of the investigations to the Director, Division of Trade Adjustment Assistance, at the address shown below, not later than September 29, 2005.

The petitions filed in this case are available for inspection at the Office of the Director, Division of Trade Adjustment Assistance, Employment and Training Administration, U.S. Department of Labor, Room C-5311, 200 Constitution Avenue, NW., Washington, DC 20210.

Signed at Washington, DC this 7th day of September 2005.
Timothy Sullivan,
Director, Division of Trade Adjustment Assistance.

Appendix
[Petitions instituted between 08/22/2005 and 08/26/2005]
TA-W | Subject firm (petitioners) | Location | Date of institution | Date of petition
57,807 | TRW (Comp) | Danville, PA | 08/22/2005 | 08/22/2005
57,808 | Nomaco (Wkrs) | Tarboro, NC | 08/22/2005 | 08/17/2005
57,809 | R.J. Reynolds Tobacco Company (Comp) | Richmond, VA | 08/22/2005 | 08/08/2005
57,810 | Stone International, LLC (Comp) | Columbia, SC | 08/22/2005 | 08/19/2005
57,811 | Telemarketing Concepts, Inc. (NPC) | Yorktown Height, NY | 08/22/2005 | 08/18/2005
57,812 | Sanford North America (Comp) | Santa Monica, CA | 08/22/2005 | 08/15/2005
57,813 | R.J. Reynolds Tobacco Company (Comp) | Macon, GA | 08/22/2005 | 08/08/2005
57,814 | Leviton Manufacturing (Comp) | Morganton, NC | 08/23/2005 | 08/17/2005
57,815 | Swift and Company (Comp) | Nampa, ID | 08/23/2005 | 08/18/2005
57,816 | Nidec America Corporation (State) | Torrington, CT | 08/23/2005 | 08/22/2005
57,817 | Datacolor (State) | Lawrenceville, NJ | 08/23/2005 | 08/23/2005
57,818 | Trim Masters, Inc. (Wkrs) | Harrodsburg, KY | 08/23/2005 | 08/10/2005
57,819 | Ceramic Magnetics, Inc. (State) | Fairfield, NJ | 08/23/2005 | 08/23/2005
57,820 | Paper Converting Machine Company (UAW) | Green Bay, WI | 08/23/2005 | 08/22/2005
57,821 | Mayflower Vehicle Systems (UAW) | South Charleston, WV | 08/24/2005 | 08/17/2005
57,822 | Rubber Maid (State) | Goodyear, AZ | 08/24/2005 | 08/19/2005
57,823 | Ingram Micro, Inc. (Wkrs) | Williamsville, NY | 08/24/2005 | 07/24/2005
57,824 | Hapag-Lloyd (Comp) | Norfolk, VA | 08/24/2005 | 08/15/2005
57,825 | Vectron (Wkrs) | Norwalk, CT | 08/24/2005 | 08/15/2005
57,826 | Ultra-Pak (State) | Greer, SC | 08/24/2005 | 08/17/2005
57,827 | Excellence Manufacturing, Inc. (Wkrs) | Grand Rapids, MI | 08/24/2005 | 08/22/2005
57,828 | Hold-E-Zee, Ltd. (Wkrs) | Meadville, PA | 08/24/2005 | 08/22/2005
57,829 | Daimler-Chrysler Indianapolis Foundry (Comp) | Indianapolis, IN | 08/24/2005 | 08/22/2005
57,830 | Mallory AC Capacitor, LLC (Wkrs) | Glasgow, KY | 08/24/2005 | 08/23/2005
57,831 | DSM Nutritional Products, Inc. (State) | Belvidere, NJ | 08/24/2005 | 08/24/2005
57,832 | C-Line Products, Inc. (Comp) | Mt. Prospect, IL | 08/24/2005 | 08/15/2005
57,833 | A.O. Smith Corporation (Comp) | Upper Sandusky, OH | 08/24/2005 | 08/15/2005
57,834 | Ashley Furniture Ind. (Wkrs) | Ecru, MS | 08/24/2005 | 08/15/2005
57,835 | Laneko Engineering Co. (IAM) | Fort Washington, PA | 08/24/2005 | 08/18/2005
57,836 | Ruskin (Comp) | Clayton, OH | 08/24/2005 | 08/04/2005
57,837 | Peters Manufacturing Co. (Wkrs) | Vassar, MI | 08/24/2005 | 08/11/2005
57,838 | Texstyle, Inc. (Comp) | Manchester, KY | 08/25/2005 | 08/16/2005
57,839 | American Glove Company, Inc. (State) | Lyerly, GA | 08/25/2005 | 08/24/2005
57,840 | Lear Corporation (Wkrs) | Winchester, VA | 08/25/2005 | 08/22/2005
57,841 | Panasonic Services Company (Wkrs) | Langhorne, PA | 08/26/2005 | 08/25/2005
57,842 | Carolina Graphic Arts (State) | Greenville, SC | 08/26/2005 | 08/25/2005
57,843 | Sierra Pine (Wkrs) | Medford, OR | 08/26/2005 | 08/22/2005
57,844 | Borg Warner Transmission System (Wkrs) | Frankfort, IL | 08/26/2005 | 07/29/2005
57,845 | Eaton Corporation (PACE) | Saginaw, MI | 08/26/2005 | 08/16/2005
57,846 | UBE Automotive (UAW) | Mason, OH | 08/26/2005 | 08/22/2005

[FR Doc. 05-18548 Filed 9-16-05; 8:45 am]

BILLING CODE 4510-30-P